DEPARTMENT OF THE INTERIOR

Bureau of Land Management

[AK-040-1430-ET; AA-49284]

Realty Action; Termination of Classification and Opening Order: Alaska

AGENCY: Bureau of Land Management, Interior.

ACTION: Notice of Realty Action.

SUMMARY: This notice terminates a Small Tract Classification and opens certain lands near Port Moller, Alaska, that were classified for small tract lease under the Small Tract Act of June 1, 1938 (52 Stat. 609) is amended. This action would allow the land to be conveyed to the State of Alaska if such land is otherwise available.

Effective DATE: February 22, 2002.

FOR FURTHER INFORMATION CONTACT: Kathy A. Stubbs, Anchorage Field Office, 6881 Abbott Loop Road, Anchorage, Alaska 99507; telephone number 907-267-1284.

SUPPLEMENTARY INFORMATION: Classification Order No. 386-NC dated June 1, 1961, segregated the lands from all forms of appropriation under the public land laws, including location under the mining laws, except as to application under the mineral leasing laws and the Small Tract Act. The Small Tract Act was repealed by section 702 of the Federal Land Policy and Management Act of October 21, 1976 (43 U.S.C. 1701). Accordingly the classification is not longer applicable.

1. Pursuant to the regulations contained 43 CFR 2091.7-1(b)(2), at 9 a.m. on February 22, 2002. Classification Order No. 386-NC dated June 1, 1961, is hereby terminated insofar as if affects the following described land:

Seward Meridian, Alaska

A-049284

T.48S., R. 72 W., (surveyed) Tract A.

The area described contains 5 acres in Port Moller, Alaska.

2. The State of Alaska application for selection made under section 6(b) of the Alaska Statehood Act of July 7, 1958, 48 U.S.C. note prec. 21 (1995), and under section 906(e) of the Alaska National Interest Lands Conservation Act, 43 U.S.C. 1635(e) (1994), becomes effective without further action by the State upon publication of this notice in the Federal Register, if such land is otherwise available. Land not conveyed to the State will be subject to the terms and conditions of Public Land Order No. 5186, as amended, and any other withdrawal or segregation of record.

June A. Bailey,
Acting Field Manager.

[FR Doc. 02-4229 Filed 2-21-02; 8:45 am]

BILLING CODE 4310-JA-M